DEPARTMENT OF HOUSING AND URBAN DEVELOPMENT

[Docket No. FR-4660-N-01]

Notice of Proposed Information Collection: Comment Request; Mortgagee Review Board

AGENCY: Enforcement Center, HUD.

ACTION: Notice.

SUMMARY: The proposed information collection requirement described below will be submitted to the Office of Management and Budget (OMB) for review, as required by the Paperwork Reduction Act. the Department is soliciting public comments on the subject proposal.

DATES: Comments Due Date: May 22, 2001.

ADDRESSES: Interested persons are invited to submit comments regarding this proposal. Comments should refer to the proposal by name and/or OMB Control Number (2502-0450) should be sent to: Jack Kinkaid, Secretary to the Mortgage Review Board (MRB), Department of Housing and Urban Development, 451 7th Street, SW., Portals Building, Suite 200, Washington, DC 20410.

FOR FURTHER INFORMATION CONTACT: Jack Kinkaid, Secretary to the MRB, VD, Department of Housing and Urban Development, 451 Seventh Street, SW., Washington, DC 20410; e-mail Jack_D._Kinkaid@HUD.gov; telephone (202) 708-3041 (this is not a toll-free number) for copies of the proposed forms and other available information.

SUPPLEMENTARY INFORMATION: The Department will submit the proposed information collection to OMB for review, as required by the Paperwork Reduction Act of 1995 (44 U.S.C. chapter 35, as amended).

This Notice is soliciting comments from members of the public and affecting agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submission of response.

This Notice also lists the following information:

Title of Proposal: Mortgagee Review Board.

OMB Control Number, if applicable: 2502-0450.

Description of the need for the information and proposed use: Sec. 202(c) of the HUD Reform Act of 1989 established a Mortgagee Review Board to impose administrative sanctions and civil money penalties against HUD approved mortgagees that violate the Department's requirements. The Mortgagee Review Board issues a Notice of Violation to mortgagees that have violated Departmental regulations. The Notice of Violation states the specific violations that have been alleged and gives mortgagees 30 days to provide a written response. The mortgagee may include a settlement proposal in their response. The Mortgagee Review Board then makes a determination on the case, taking into consideration any response received from the mortgagee. Mortgagees may appeal administrative sanctions or civil money penalties imposed by the Mortgagee Review Board.

Agency form numbers, if applicable: None.

Members of affected public: Business or other for-profit.

Estimation of the total burden: Number of hours needed to prepare the information collection is 2,440; number of respondents is 61, annual frequency of response is 1, and the hours per response is 40.

Status of the proposed information collection: Extension without change of a currently approved collection.

Authority: Section 3506 of the Paperwork Reduction Act of 1995, 44 U.S.C. Chapter 35, as amended.

Dated: March 7, 2001.
John J. Coonts,
Associate Director, Enforcement Center.

[FR Doc. 01-7177 Filed 3-22-01; 8:45 am]

BILLING CODE 4210-01-M